DEPARTMENT OF ENERGY

Federal Energy Regulatory Commission

[Docket Nos. CP04-47-000, CP04-38-000, CP04-39-000, and CP04-40-000]

Sabine Pass LNG, L.P. and Cheniere Sabine Pass Pipeline Company; Notice of Availability of the Final Environmental Impact Statement for the Proposed Sabine Pass LNG and Pipeline Project

November 12, 2004.

The staff of the Federal Energy Regulatory Commission (FERC or Commission) has prepared a final Environmental Impact Statement (EIS) on the liquefied natural gas (LNG) import terminal and natural gas pipeline facilities in Cameron Parish, Louisiana proposed by Sabine Pass LNG, L.P. and Cheniere Sabine Pass Pipeline Company (collectively referred to as Cheniere Sabine) in the above-referenced dockets.

The final EIS was prepared to satisfy the requirements of the National Environmental Policy Act (NEPA). The staff concludes that approval of the proposed project with appropriate mitigating measures as recommended, would have limited adverse environmental impact. The final EIS also evaluates alternatives to the proposal, including system alternatives, alternative sites for the LNG import terminal, and pipeline alternatives.

The final EIS also addresses the potential environmental effects of the construction and operation of the following LNG terminal and natural gas pipeline facilities:

• A new marine terminal basin connected to the Sabine Pass Channel that would include a ship maneuvering area and two protected berths to unload up to 300 LNG ships per year with a ship capacity ranging up to 250,000 cubic meters (m³) of LNG;

• Three all-metal, double-walled, single containment, top-entry LNG storage tanks, each with a nominal working volume of approximately 160,000 m³ (1,006,400 barrels) and each with secondary containment dikes to contain 110 percent of the gross tank volume;

• Sixteen high-pressure submerged combustion vaporizers with a capacity of approximately 180 million cubic feet per day, as well as other associated vaporization equipment;

• Instrumentation and safety systems, including hazard detection and fire response systems, ancillary utilities, buildings, and service facilities, including a metering facility;

• Packaged natural gas turbine/generator sets to generate power for the LNG terminal; and

• Approximately 16 miles of 42-inch-diameter natural gas pipeline, two metering stations, and associated pipeline facilities including launcher and receiver facilities.

The purpose of the Sabine Pass LNG and Pipeline Project is to provide the facilities necessary to meet growing demand for natural gas in the United States by providing a reliable supply of natural gas and access to worldwide natural gas reserves.

The final EIS has been placed in the public files of the FERC and is available for distribution and public inspection at: Federal Energy Regulatory Commission, Public Reference Room, 888 First Street, NE., Room 2A, Washington, DC 20426, (202) 502-8371.

A limited number of copies of the final EIS are available from the Public Reference Room identified above. In addition, copies of the final EIS have been mailed to Federal, State, and local agencies; public interest groups; individuals and affected landowners who requested a copy of the final EIS; libraries; newspapers; and parties to this proceeding.

In accordance with the Council on Environmental Quality's (CEQ) regulations implementing the NEPA, no agency decision on a proposed action may be made until 30 days after the U.S. Environmental Protection Agency publishes a notice of availability of a final EIS. However, the CEQ regulations provide an exception to this rule when an agency decision is subject to a formal internal appeal process which allows other agencies or the public to make their views known. In such cases, the agency decision may be made at the same time the notice of the final EIS is published, allowing both periods to run concurrently. The Commission's decision for this proposed action is subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with any FERC Online service, please e-mail FercOnlineSupport@ferc.gov or call (866) 208-3676, for TTY (202) 502-8659. The eLibrary link on the FERC Internet Web site also provides access to the texts of formal documents issued by the Commission, such as orders, notices, and rulemakings.

Linda Mitry,
Deputy Secretary.

[FR Doc. E4-3227 Filed 11-17-04; 8:45 am]

BILLING CODE 6717-01-P